DEPARTMENT OF ENERGY

Federal Energy Regulatory Commission

[Docket Nos. ER06-615-038; ER08-1113-000]

California Independent System Operator Corporation; Notice Regarding Answer Period

March 23, 2009.

On March 18, 2009, Modesto Irrigation District, Transmission Agency of Northern California, City of Redding, California, Sacramento Municipal Utility District, and the Turlock Irrigation District (Affected IBAA Entities) filed an Emergency Motion for Clarification and Requested for Shortened Response Time in the above-referenced proceeding. In their filing, the Affected IBAA Entities request a shortening of the date for filing a response to the motion, given the urgency of the clarification request. By this notice, the date for filing answers to the Affected IBAA Entities' motion for clarification shall be March 24, 2009.

Kimberly D. Bose,
Secretary.

[FR Doc. E9-6873 Filed 3-26-09; 8:45 am]

BILLING CODE